NATIONAL AERONAUTICS AND SPACE ADMINISTRATION

[Notice (09-066)]

Review of U.S. Human Space Flight Plans Committee; Meeting

AGENCY: National Aeronautics and Space Administration.

ACTION: Notice of meeting.

SUMMARY: In accordance with the Federal Advisory Committee Act, Public Law 92-463, as amended, the National Aeronautics and Space Administration announces a meeting of the Review of U.S. Human Space Flight Plans Committee. The agenda topics for the meeting include:

• Kennedy Space Center Perspective.

• Constellation projects.

• Committee subgroup report.

• Public comment.

DATES: Thursday, July 30, 2009, 8 a.m.-4 p.m. Note: All times listed are local times.

ADDRESSES: Hilton Cocoa Beach Oceanfront, Grand Ballroom, 1550 North Atlantic Avenue, Cocoa Beach, Florida 32931, 321-799-0003.

FOR FURTHER INFORMATION CONTACT: Mr. Philip R. McAlister, Office of Program Analysis and Evaluation, National Aeronautics and Space Administration, Washington, DC 20546. Phone 202-358-0712.

SUPPLEMENTARY INFORMATION: The meeting will be open to the public up to the seating capacity of the room. It is imperative that the meeting be held on this date to accommodate the scheduling priorities of the key participants.

P. Diane Rausch,
Advisory Committee Management Officer, National Aeronautics and Space Administration.

[FR Doc. E9-16533 Filed 7-10-09; 8:45 am]

BILLING CODE P